DEPARTMENT OF THE INTERIOR

Fish and Wildlife Service

Mission View Estates Habitat Conservation Plan and Environmental Assessment

AGENCY: Fish and Wildlife Service, Interior.

ACTION: Notice.

SUMMARY: Kennedy Development of California, LLC has applied to Fish and Wildlife Service (Service) for an incidental take permit pursuant to section 10(a)(1)(B) of the Endangered Species Act of 1973, as amended (Act). The proposed 10-year permit would authorize incidental take of the federally threatened coastal California gnatcatcher (Polioptila californica californica) in connection with the construction of the 65-unit Mission View Estates residential development on 28.9 acres in the City of Oceanside, San Diego County, California. The permit application includes a Habitat Conservation Plan (HCP) and an Implementation Agreement that serves as a legal contract. The Service has prepared an Environmental Assessment for our proposed action of issuing a permit to Kennedy Development. These documents are available for public review and comment.

DATES: We must receive your written comments on or before March 12, 2002.

ADDRESSES: Send comments to Mr. Jim Bartel, Field Supervisor, U.S. Fish and Wildlife Service, 2730 Loker Avenue West, Carlsbad, California 92008. You also may submit comments by facsimile to (760) 431-9618.

FOR FURTHER INFORMATION CONTACT: Ms. Janet Stuckrath, Fish and Wildlife Biologist, at the above address; telephone (760) 431-9440.

SUPPLEMENTARY INFORMATION:

Availability of Documents

You may request copies of the documents by contacting the office above. You may view the documents, by appointment, during normal business hours (8 a.m. to 5 p.m.), Monday through Friday at the Carlsbad Fish and Wildlife Office (see ADDRESSES). Copies are also available for viewing at two public libraries: Civic Center Library, 330 North Coast Highway, Oceanside, California; or Mission Branch Library, 3861-B Mission Avenue, Oceanside, California.

Background

Section 9 of the Act and Federal regulation prohibit the “take” of animal species listed as endangered or threatened. That is, no one may harass, harm, pursue, hunt, shoot, wound, kill, trap, capture or collect listed animal species, or attempt to engage in such conduct (16 U.S.C. 1538). “Harm” is defined by regulation to include significant habitat modification or degradation that actually kills or injures wildlife by significantly impairing essential behavioral patterns, including breeding, feeding, or sheltering (50 CFR 17.3). Under certain circumstances, the Service may issue permits to authorize “incidental” take of listed animal species (defined by the Act as take that is incidental to, and not the purpose of, the carrying out of an otherwise lawful activity). Regulations governing permits for threatened and endangered species, respectively, are at 50 CFR 17.32 and 17.22.

Kennedy Development has submitted an application for a 10-year incidental take permit to the Service, proposing the take of coastal California gnatcatchers during the construction of a residential development on the 28.9-acre site. One threatened plant, thread-leaved brodiaea (Brodiaea filifolia), would be named on the permit. The taking prohibitions of the Act do not apply to listed plants on private land unless their destruction on private land is in violation of State law. Nevertheless, Kennedy Development has considered the plant in its HCP and requests a permit for this species to the extent that State law applies.

The proposed project is located in the City of Oceanside south of Mission Avenue, at the terminus of Mission Gate Drive. The proposed project consists of: (1) The construction of 65 single-family homes; (2) extension of Mission Gate Drive, and (3) implementation of the HCP over a 10-year period. The HCP would establish and provide for management of a 7.88-acre conservation area on the project site, containing 4.24 acres of coastal sage scrub habitat occupied by 2 pairs of gnatcatchers. In addition, the applicant will purchase 11.82 acres of an off-site habitat parcel within the City of Oceanside's “Wildlife Corridor Planning Zone” as described in the draft “Oceanside Subarea Habitat Conservation Plan/Natural Communities Conservation Plan” (Ogden Environmental and Conservation Biology Institute, 2000) and 3.94 acres of off-site habitat within an approved conservation bank, for a total of 15.76 acres of off-site preservation.

The HCP and Environmental Assessment consider two alternatives to the proposed project: a reduced project alternative; and a no action alternative. Under the proposed project alternative, a permit would be issued for incidental take of the coastal California gnatcatcher. This alternative would result in the permanent loss of 5.91 acres of habitat that currently supports 2 pairs of gnatcatchers within the 28.9-acre project site. This alternative would permanently preserve 20.0 acres of habitat for the gnatcatcher.

Under the reduced project alternative, on-site open space (lot A) would increase from 7.8 acres to approximately 13.8 acres through the elimination of 25 residential lots. Although this alternative reduces the impacts to occupied coastal sage scrub, the applicant has determined it to be financially infeasible.

Under the no project alternative, the Service would not issue an incidental take permit to Kennedy Development. Kennedy Development would not construct the proposed residential development on the site and would not establish and manage preserves for the coastal California gnatcatcher. The extension of Mission Gate Drive would likely still occur due to proposed development on the adjacent property. Present disturbance of the project area would continue in the form of trespassing in gnatcatcher-occupied habitat, illegal dumping, erosion, and periodic fire. Considering that the area is zoned for residential use, it is likely that the area would eventually be developed for another residential development.

We provide this notice pursuant to section 10(a) of the Endangered Species Act and regulations for implementing the National Environmental Policy Act of 1969 (40 CFR 1506.6). All comments that we receive, including names and addresses, will become part of the administrative record and may be made available to the public. We will evaluate the permit application, Environmental Assessment, associated documents, and comments submitted thereon to determine whether the application meets the requirements of section 10(a) of the Endangered Species Act. If we determine that the requirements are met, we will issue a permit for the incidental take of the gnatcatcher and the thread-leaved brodiaea. We will make a decision on permit issuance no sooner than 60 days from the date of this notice.

Dated: January 7, 2002.
Miel R. Corbett,
Acting Manager, Region 1, California/Nevada Operations Office, Sacramento, California.

[FR Doc. 02-710 Filed 1-10-02; 8:45 am]

BILLING CODE 4310-55-P